DEPARTMENT OF STATE

[Public Notice: 9234]

Renewal of International Security Advisory Board Charter

SUMMARY: The Department of State announces the renewal of the Charter of the International Security Advisory Board (ISAB).

The purpose of the ISAB is to provide the Department with a continuing source of independent insight, advice, and innovation on all aspects of arms control, disarmament, nonproliferation, and international security and related aspects of public diplomacy. The ISAB will remain in existence for two years after the filing date of the Charter unless terminated or renewed sooner.

For more information, contact Christopher M. Herrick, Acting Executive Director of the International Security Advisory Board, Department of State, Washington, DC 20520, telephone: (202) 647-9683.

Dated: July 10, 2015.
Christopher M. Herrick,
Acting Executive Director, International Security Advisory Board, U.S. Department of State.

[FR Doc. 2015-21190 Filed 8-25-15; 8:45 am]

BILLING CODE 4710-27-P